DEPARTMENT OF HEALTH AND HUMAN SERVICES

Centers for Disease Control and Prevention

Board of Scientific Counselors, National Center for Environmental Health/Agency for Toxic Substances and Disease Registry (BSC, NCEH/ATSDR), Lead Poisoning Prevention (LPP) Subcommittee; Notice of Meeting

In accordance with section 10(a)(2) of the Federal Advisory Committee Act (Pub. L. 92-463), the CDC, National Center for Environmental Health/Agency for Toxic Substances and Disease Registry (NCEH/ATSDR) announces the following meeting of the aforementioned committee:

Time and Date

12:00 p.m.-2:00 p.m., EST, February 23, 2016

Place: This meeting will be held by teleconference. To participate in the teleconference, please dial 1-888-390-3409 Passcode: 7621651

Status: The meeting is open to the public, limited only by the conference lines available. The public is welcome to participate during the public comment period, which is tentatively scheduled from 1:15 p.m. to 1:30 p.m.

This Federal Register Notice is being published less than 15 days before the meeting due to the recent public health crisis involving the Flint, Michigan water contamination with lead. CDC is convening a meeting of the Lead Poisoning Prevention Subcommittee of the BSC, NCEH/ATSDR for a discussion of public health measures and assessments needed in response to this event.

Purpose

The subcommittee will propose strategies and options to the Board of Scientific Counselors (BSC) on ways to prioritize NCEH/ATSDR's activities, improve health outcomes, and address health disparities as it relates to lead exposures. The subcommittee will deliberate on ways to evaluate lead exposure and how to best conduct health evaluations through exposure and epidemiologic studies. Subcommittee proposals on lead prevention practices and national lead poisoning prevention efforts will be provided to the Board of Scientific Counselors for deliberation and possible adoption as formal recommendations to NCEH/ATSDR.

Matters for Discussion: Agenda items will include the following: A discussion on the blood lead testing and health surveillance strategies for the residents of Flint, Michigan.

Agenda items are subject to change as priorities dictate.

Contact Person for More Information: Sandra Malcom, Committee Management Specialist, NCEH/ATSDR, 4770 Buford Highway, Mail Stop F-45, Chamblee, Georgia 30345; telephone 770/488-0575, Fax: 770/488-3377; Email: smalcom@cdc.gov.

The Director, Management Analysis and Services Office has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2016-03375 Filed 2-12-16; 4:15 pm]

BILLING CODE 4163-18-P